ENVIRONMENTAL PROTECTION AGENCY

40 CFR Part 51

Requirements for Preparation, Adoption, and Submittal of Implementation Plans

CFR Correction

In Title 40 of the Code of Federal Regulations, Parts 50 to 51, revised as of July 1, 2010, on page 265, in § 51.166, paragraph (b)(49)(vi) is added to read as follows:

§ 51.166 Prevention of significant deterioration of air quality.

* * * * *

(b) * * *

(49) * * *

(vi) Particulate matter (PM) emissions, PM2.5 emissions, and PM10 emissions shall include gaseous emissions from a source or activity which condense to form particulate matter at ambient temperatures. On or after January 1, 2011 (or any earlier date established in the upcoming rulemaking codifying test methods), such condensable particulate matter shall be accounted for in applicability determinations and in establishing emissions limitations for PM, PM2.5 and PM10 in PSD permits. Compliance with emissions limitations for PM, PM2.5 and PM10 issued prior to this date shall not be based on condensable particular matter unless required by the terms and conditions of the permit or the applicable implementation plan. Applicability determinations made prior to this date without accounting for condensable particular matter shall not be considered in violation of this section unless the applicable implementation plan required condensable particular matter to be included.

* * * * *

[FR Doc. 2011-8334 Filed 4-5-11; 8:45 am]

BILLING CODE 1505-01-D